DEPARTMENT OF COMMERCE

National Oceanic and Atmospheric Administration

[RTID 0648-XE798]

Deepwater Horizon Natural Resource Damage Assessment Texas Trustee Implementation Group Final Restoration Plan/Environmental Assessment #3: Wetlands, Coastal, and Nearshore Habitats and Finding of No Significant Impact

AGENCY: National Marine Fisheries Service (NMFS), National Oceanic and Atmospheric Administration (NOAA), Commerce.

ACTION: Notice of availability.

SUMMARY: This notice announces that the Deepwater Horizon (DWH) natural resource Trustees for the Texas Trustee Implementation Group (Texas TIG) have prepared and are making available to the public the Final Restoration Plan/Environmental Assessment #3: Wetlands, Coastal, and Nearshore Habitats (RP/EA #3) and Finding of No Significant Impact (FONSI). The Final RP/EA #3 considers alternatives to help restore wetlands, coastal, and nearshore habitats injured by the DWH oil spill. The Final RP/EA #3 evaluates a reasonable range of project alternatives under the Oil Pollution Act (OPA) and the OPA Natural Resource Damage Assessment regulations, and the National Environmental Policy Act (NEPA), and selects six projects for funding and implementation. A no action alternative is also evaluated pursuant to NEPA.

ADDRESSES: Obtaining Documents: You may view and download the Final RP/EA #3 and FONSI at https://www.gulfspillrestoration.noaa.gov/restoration-areas/texas. You may also request a flash drive containing the Final RP/EA #3, FONSI, and a fact sheet (see FOR FURTHER INFORMATION CONTACT).

FOR FURTHER INFORMATION CONTACT: National Oceanic and Atmospheric Administration—Jamie Schubert, NOAA Restoration Center, (409) 621-1208, Jamie.schubert@noaa.gov.

SUPPLEMENTARY INFORMATION:

Introduction

On April 20, 2010, the mobile offshore drilling unit Deepwater Horizon, which was drilling a well for BP Exploration and Production, Inc. (BP), experienced a significant explosion, fire and subsequent sinking in the Gulf of America (Gulf) (formerly, the Gulf of Mexico), resulting in the release of millions of barrels of oil and other discharges into the Gulf. Under the authority of the OPA, designated Federal and state Trustees, acting on behalf of the public, assessed the injuries to natural resources and prepared the Deepwater Horizon Oil Spill Final Programmatic Damage Assessment and Restoration Plan and Final Programmatic Environmental Impact Statement (Final PDARP/PEIS), and the Record of Decision for the Deepwater Horizon Oil Spill Final PDARP/PEIS (ROD), which sets forth the governance structure and process for DWH restoration planning under the OPA NRDA regulations. On April 4, 2016, the United States District Court for the Eastern District of Louisiana entered a Consent Decree resolving civil claims by the Trustees against BP.

The Texas TIG, which is composed of the National Oceanic and Atmospheric Administration, the U.S. Department of the Interior, the U.S. Environmental Protection Agency, the U.S. Department of Agriculture, the Texas General Land Office, the Texas Parks and Wildlife Department, and the Texas Commission on Environmental Quality, selects and implements restoration projects under the Texas TIG's management authority in accordance with the Consent Decree. The Final PDARP/PEIS, ROD, Consent Decree, and information on the DWH Trustees can be found at https://www.gulfspillrestoration.noaa.gov/restoration-planning/gulf-plan.

Background

On August 5, 2024, the Texas TIG announced on the Gulf Spill Restoration website that they were initiating preparation of the Draft RP/EA #3, which tiers from the Final PDARP/PEIS and includes a reasonable range of restoration project alternatives to provide compensatory restoration toward meeting the Restore and Conserve Habitats restoration goal identified in the Final PDARP/PEIS under the Wetlands, Coastal, and Nearshore Habitats (WCNH) Restoration Type. On January 16, 2025, the Texas TIG released the Draft RP/EA #3 for a 30-day public review period (90 FR 4725, January 16, 2025). To facilitate public understanding of the document, the Texas TIG held a public meeting on January 28, 2025, during which public comments were solicited. The Texas TIG accepted public comments through February 18, 2025. After the public review period closed, the Texas TIG reviewed the comments received, prepared responses to those comments, finalized the plan, and prepared the FONSI.

Overview of the Texas TIG Final RP/EA #3

This Final RP/EA #3 focuses on the beneficial use of dredged material (BUDM) to restore and conserve wetlands, coastal, and nearshore habitats. The Texas TIG proposes the allocation of $36 million toward the use of BUDM to construct wetland habitat along the Texas coast through the preferred projects included in the Final RP/EA #3. The $36 million will be divided among the selected projects to provide the incremental cost for the U.S. Army Corps of Engineers or to fund other viable sources to beneficially use dredged sediments to construct the preferred restoration alternatives. In the Final RP/EA #3, the Texas TIG analyzes a reasonable range of eight project alternatives and, pursuant to the NEPA, a No Action alternative. Two of the alternatives are not preferred by the TIG at this time. The six projects selected by the Texas TIG for funding and implementation are listed below:

• Jocelyn Nungaray National Wildlife Refuge (NWR) Roberts Mueller Tract Wetland Restoration (note the NWR name change per Executive Order 14229, “Honoring Jocelyn Nungaray”);

• Goose Island Wetland Restoration;

• Lower Neches Wildlife Management Area Old River Unit Wetland Restoration;

• McFaddin National Wildlife Refuge Willow Lake Terraces Wetland Restoration;

• San Bernard National Wildlife Refuge Sargent Oil Field Wetland Restoration; and

• Texas Point National Wildlife Refuge Wetland Restoration.

Funding to implement the alternatives selected by the Texas TIG will come from the WCNH Restoration Type allocation. Additional restoration planning in the Texas TIG will continue.

Administrative Record

The Administrative Record for the Final RP/EA #3 can be viewed electronically at https://www.doi.gov/deepwaterhorizon/adminrecord under the folder 6.5.2.2.3.

Authority

The authority for this action is the OPA of 1990 (33 U.S.C. 2701 et seq.), its implementing Natural Resource Damage Assessment regulations found at 15 CFR part 990 and the NEPA of 1969 (42 U.S.C. 4321 et seq.).

Dated: July 17, 2025.
Sunny Snider,
Deputy Director, Office of Habitat Conservation, National Marine Fisheries Service.

[FR Doc. 2025-13752 Filed 7-21-25; 8:45 am]

BILLING CODE 3510-22-P